DEPARTMENT OF AGRICULTURE

Submission for OMB Review; Comment Request

February 18, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Trade Adjustment Assistance for Farmers (TAA).

OMB Control Number: 0551-0040.

Summary of Collection: The Trade Act of 2002 (HR 3009) (Pub. L. 107-210), established the Trade Adjustment Assistance for Farmers (TAA) program. The primary objective of this program is to provide technical and cash assistance to producers of raw agricultural commodities when the Administrator, Foreign Agricultural Service (FAS), determines that increased imports have contributed importantly to specific price decline over 5 preceding marketing years.

Need and Use of the Information: FAS will collect information to permit producers to petition and apply for program benefits. The information is needed to determine eligibility to obtain benefits under the program providing trade adjustment assistance for farmers and to ascertain the amount of payments an adversely affected producer is entitled to receive. The information collected will provide essential data and economic information for use by FAS, Farm Service Agency, Economic Research Service, Extension Service, and other agencies within the Department.

Description of Respondents: Farms; Not-for-profit institutions; Business or other for-profit.

Number of Respondents: 1,250.

Frequency of Responses: Reporting: Annually.

Total Burden Hours: 8,750.

Ruth Brown,
Departmental Information Collection Clearance Officer.

[FR Doc. 2010-3699 Filed 2-23-10; 8:45 am]

BILLING CODE 3410-10-P